DEPARTMENT OF COMMERCE

International Trade Administration

A-337-806

Individually Quick Frozen Red Raspberries from Chile: Notice of Partial Rescission of Antidumping Duty Administrative Review

AGENCY: Import Administration, International Trade Administration, Department of Commerce.

SUMMARY: In response to requests from interested parties, the Department of Commerce is conducting an administrative review of the antidumping duty order on individually quick frozen red raspberries from Chile. This review covers sales of individually quick frozen red raspberries to the United States during the period July 1, 2005 through June 30, 2006. Based on the withdrawal of requests for review with respect to certain companies, we are rescinding, in part, the fourth administrative review.

EFFECTIVE DATE: December 12, 2006.

FOR FURTHER INFORMATION CONTACT: Yasmin Bordas, AD/CVD Operations, Office 1, Import Administration, International Trade Administration, U.S. Department of Commerce, 14th Street and Constitution Avenue, NW, Washington DC 20230; telephone (202) 482-3813.

SUPPLEMENTARY INFORMATION:

Background

On July 3, 2006, the Department of Commerce (“the Department”) published in the Federal Register the Antidumping or Countervailing Duty Order, Finding, or Suspended Investigation; Opportunity To Request Administrative Review, 71 FR 37890 (July 3, 2006), for the above-cited segment of this antidumping duty proceeding. We received a timely filed request for review of 60 companies from the Pacific Northwest Berry Association, Lynden, Washington, and each of its individual members, Curt Maberry Farm; Enfield Farms, Inc.; Maberry Packing; and Rader Farms, Inc. (collectively, “the petitioners”). We also received timely filed requests for review from Arlavan S.A. (“Arlavan”); Sociedad Agroindustrial Valle Frio Ltda. (“Valle Frio”); Fruticola Olmue S.A. (“Olmue”); Santiago Comercio Exterior Sociedad Anonima (“SANCO”); Valles Andinos S.A. (“Valles Andinos”); Vital Berry Marketing S.A. (“VBM”); and Alimentos Naturales Vitafoods S.A. (“Vitafoods”).

On July 31, 2006, the Department received a request from SANCO to defer for one year, with respect to SANCO, the initiation of the July 1, 2005 through June 30, 2006 administrative review of the antidumping duty order on individually quick frozen red raspberries from Chile. The Department received no objections to this request from any party cited in 19 CFR 351.213(c)(1)(ii). On August 30, 2006, the Department published in the Federal Register the Initiation of Antidumping and Countervailing Duty Administrative Reviews and Requests for Revocation in Part, 71 FR 51573 (Aug. 30, 2006) (“Initiation Notice”), initiating this review for all 60 companies. In the Initiation Notice, the Department inadvertently included SANCO, despite SANCO's pending, unopposed request for deferral. Therefore, on November 21, 2006, the Department corrected the Initiation Notice and granted SANCO's deferral request. See Certain Individually Quick Frozen Red Raspberries from Chile: Correction to Notice of Initiation of Antidumping and Countervailing Duty Administrative Reviews and Requests for Revocation in Part, 71 FR 70363 (Dec. 4, 2006).

On November 28, 2006, we received a submission from the petitioners withdrawing their requests for review for all of the companies for which they had requested an administrative review, except for the following companies: Arlavan, Valle Frio, Olmue, Valles Andinos, VBM, SANCO, and Vitafoods.

Partial Rescission of Antidumping Administrative Review

The petitioners filed their withdrawal request within the deadline established by the Department's regulations. Therefore, we are rescinding the above-cited administrative review with respect to the following companies in accordance with 19 CFR 351.213(d)(1):

Agricola Nova, Ltda.

Agricola San Antonio

Agrocomercial Las Tinajas Ltda.

Agrofruta Chilena Ltda.

Agrofruticola Pehuenche S.A.

Agroindustria Framberry Ltda.

Agroindustria Frisac Ltda.

Agroindustria Frutos del Maipo Ltda.

Agroindustria Merco Trading Ltda.

Agroindustria Niquen Ltda.

Agroindustria Sagrada Familia Ltda.

Agroindustria San Francisco Ltda.

Agroindustria y Frigorifico M y M Ltda.

Agroindustrial del Maule

Agross S.A.

Alimentos Prometeo Ltda.

Alimentos y Frutos S.A.

Andesur S.A.

Angloeuro Comercio Exterior S.A.

Armijo Carrasco, Claudio del Carmen

Bajo Cero S.A.

C y C Group S.A.

Certified Pure Ingredients (Chile) Inc. y Cia. Ltda.

Chile Andes Foods S.A.

Comercializadora Agricola Berries & Fruit Ltda.

Comercializadora de Alimentos del Sur Ltda.

Comercio y Servicios S.A.

Copefrut S.A.

Exportaciones Meyer S.A.

Exportadora Fragaria Ltda.

Exportadora Pentagro S.A.

Exportadora South Berries Ltda.

Francisco Nancuvilu Punsin

Frigorifico Ditzler Ltda.

Frutas de Guaico S.A.

Fruticola Viconto S.A.

Hassler Monckeberg S.A.

Hortifrut S.A.

Interagro Comercio y Ganado S.A.

Kugar Export Ltda. (Kulenkampff & Gardeweg Ltda.)

Maria Teresa Ubilla Alarcon

Multifrigo Valparaiso S.A.

Nevada Export S.A.

Prima Agrotrading Ltda.

Procesadora y Exportadora de Frutas y Vegetales Ltda.

Rio Teno S.A.

Sociedad Agricola Valle del Laja Ltda.

Sociedad Comercial C y C, S.A.

Sociedad Exportaciones Antiquina Ltda.

Sociedad San Ernesto Ltda.

Surfrut

Terra Natur S.A.

Terrazas Export S.A.

The following companies remain subject to this administrative review: Olmue, VBM, Valles Andinos, Vitafoods, Arlavan and Valle Frio. As discussed in the Background section, above, we have deferred for one year an administrative review for 2005-2006 with respect to SANCO. We intend to issue our preliminary results in this administrative review for Olmue, VBM, Valles Andinos, Vitafoods, Arlavan, and Valle Frio by April 2, 2007.

Assessment

The Department will instruct U.S. Customs and Border Protection (“CBP”) to assess antidumping duties on all appropriate entries. For those companies for which this review is rescinded, antidumping duties shall be assessed at rates equal to the cash deposit of estimated antidumping duties required at the time of entry, or withdrawal from warehouse, for consumption, in accordance with 19 CFR 351.212(c)(1)(i). The Department will issue appropriate assessment instructions directly to CBP within 15 days of publication of this notice.

Cash Deposit Rates

For the companies for which this review is rescinded, the cash deposit rate will continue to be 6.33 percent, the “all others” rate established in the less-than-fair-value investigation. See Notice of Amended Final Determination of Sales at Less Than Fair Value: IQF Red Raspberries from Chile, 67 FR 40270 (June 12, 2002).

These cash deposit requirements shall remain in effect until publication of the final results of this administrative review.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i) of the Tariff Act of 1930, as amended, and 19 CFR 351.213(d)(4).

Dated: December 6, 2006.
Stephen J. Claeys,
Deputy Assistant Secretary for Import Administration.

[FR Doc. E6-21129 Filed 12-11-06; 8:45 am]

BILLING CODE 3510-DS-S